NATIONAL LABOR RELATIONS BOARD

Realignment of Regional Office Geographic Boundaries

AGENCY: National Labor Relations Board.

ACTION: Notice of geographic realignment of the following Regional Offices: Philadelphia (Region 4), Baltimore (Region 5), Pittsburgh (Region 6), St. Louis (Region 14), Ft. Worth (Region 16), Memphis (Region 26) and Phoenix (Region 28).

SUMMARY: The National Labor Relations Board gives notice of its intent to realign the geographic boundaries between the Pittsburgh, Baltimore and Philadelphia Regional Offices, between the St. Louis and Memphis Regional Offices, and between the Ft. Worth and Phoenix Regional Offices. This realignment is being effectuated in order to improve service to the public, promote increased administrative efficiency and reduce travel costs and staff time spent in transit. Accordingly, the jurisdiction over the following counties is transferred as indicated.

County and state | Transferring region | Receiving region
New Castle, DE | Baltimore | Philadelphia.
Schuylkill and Lebanon Counties, PA | Pittsburgh | Philadelphia.
Juniata, Perry and Dauphin Counties, PA | Pittsburgh | Philadelphia.
Dunkin, Mississippi, New Madrid and Pemiscot Counties, MO | St. Louis | Memphis.
El Paso, Hudspeth and Culbertson Counties, TX | Ft. Worth | Phoenix.

Cases that are pending as of the effective date of the realignment will remain in the Regional Office in which they were originally filed for further processing unless the parties to a specific case are advised otherwise by an order transferring that case.

EFFECTIVE DATE: June 2, 2004.

FOR FURTHER INFORMATION CONTACT: Lester A. Heltzer, Executive Secretary, National Labor Relations Board, 1099 14th Street, NW., Room 11600, Washington, DC 20570-0001.

The addresses of the Regional Offices affected by the realignment are:

National Labor Relations Board, Region 4, 615 Chestnut Street, 7th Floor, Philadelphia, PA 19106-4404, (215) 597-7601.

National Labor Relations Board, Region 5, The Appraisers Store Building, 103 South Gay Street, 8th Floor, Baltimore, MD 21202-4061, (410) 962-2822.

National Labor Relations Board, Region 6, 1000 Liberty Avenue, Room 1501, Pittsburgh, PA 15222-4173, (412) 395-4400.

National Labor Relations Board, Region 14, 1222 Spruce Street, Room 8302, St. Louis, MO 63103-2829, (314) 539-7770.

National Labor Relations Board, Region 16, 819 Taylor Street, Room 8A24, Fort Worth, TX 76102-6178, (817) 978-2921.

National Labor Relations Board, Region 26, 1407 Union Avenue, Suite 800, Memphis, TN 38104-3627, (901) 544-0018.

National Labor Relations Board, Region 28, 2600 North Central Avenue, Suite 1800, Phoenix, AZ 85004-3099, (602) 640-2160.

Dated, Washington, DC, May 27, 2004.
By direction of the Board.
Lester A. Heltzer,
Executive Secretary, National Labor Relations Board.

[FR Doc. 04-12400 Filed 6-1-04; 8:45 am]

BILLING CODE 7545-01-P